GENERAL SERVICES ADMINISTRATION

[Notice-ME-2024-04; Docket No.2024-0002; Sequence No. 41]

Seeking Public Input for the 6th U.S. Open Government National Action Plan

AGENCY: Office of Government-wide Policy (OGP); General Services Administration (GSA).

ACTION: Notice; request for public comment.

SUMMARY: This notice informs the public that the United States Federal Government is initiating the co-creation process for its 6th U.S. Open Government National Action Plan. The GSA is inviting input from a wide and diverse array of stakeholders from the public, private, advocacy, not-for-profit, and philanthropic sectors, including State, local, Tribal, and territorial governments. This Request for Information (RFI) aims to gather ideas, suggestions, and recommendations for commitments that could be included in the 6th U.S. Open Government National Action Plan.

DATES: Responses to this Request for Information should be received by Tuesday, November 12, 2024.

ADDRESSES: Submit comments in response to Notice “Docket GSA-GSA-2024-0016” by http://www.regulations.gov. Submit comments via the Federal eRulemaking portal by searching for “GSA-GSA-2024-0016.” Select the link “Comment Now” that corresponds with “GSA-GSA-2024-0016.” Follow the instructions provided at the screen. Please include your name, organization name (if any), and “Docket GSA-GSA-2024-0016” on your attached document. All received public comments are subject to the Freedom of Information Act and will be posted in their entirety at regulations.gov, including any personal and business confidential information provided. Do not include any information you would not like to be made publicly available.

Instructions for Submission: Please review and follow the guidelines in the attached public commenting policy within Docket GSA-GSA-2024-0016. Written comments should not exceed two (2) pages. Attachments or linked resources or documents are not included in the two-page limit. Please use concise, plain language in a narrative or bullet format. GSA has provided some key questions on which public insights would be most valuable (see Supplementary Information, Part III). You may respond to some or all of these questions. Any links you provide to online materials or presentations must be publicly accessible. Each submitted response should include:

• The name of the individual(s) or organization(s) responding.

• A brief description of the responding individual(s) or organization(s)'s mission and areas of experience and expertise.

• Optional—Contact information for questions and other follow-up on your response.

• RFI question(s), topic(s), and policy suggestions that your submission and materials address.

Please feel free to share this RFI with colleagues or others for feedback.

FOR FURTHER INFORMATION CONTACT: Alexis Masterson, U.S. Open Government Secretariat, Office of Government-wide Policy, by email at opengovernmentsecretariat@gsa.gov or by phone at 703-627-4850.

SUPPLEMENTARY INFORMATION:

I. Background

The United States is a founding member of the Open Government Partnership (OGP), a voluntary, global alliance between governments and civil society to bolster democracy through openness, transparency, and public engagement. At the core of OGP is a belief in community-centered governance, and a pledge to transform the way the public sector serves and is accountable to its people. As a multi-tiered platform, OGP includes country-level and local government-level members, as well as thousands of civil society organization partners. OGP members are required to work and collaborate with civil society to create national or local action plans every two to three years, implement meaningful transparency and accountability commitments, publicly report on progress, and submit to independent monitoring and reporting. This RFI will provide input into the 6th U.S. Open Government National Action Plan the United States is developing under this initiative. You can access the previous U.S. Open Government National Action Plans in the resource section of the new U.S. Open Government Secretariat website at https://www.gsa.gov/usopengov.

The Open Government Secretariat, in collaboration with the White House Office of Science and Technology Policy (OSTP) and the new Open Government Federal Advisory Committee, is leading the development of the 6th U.S. Open Government National Action Plan. The U.S. Open Government Secretariat is responsible for coordinating this effort and ensuring the plan reflects the input and priorities of diverse stakeholders.

This RFI is intended to gather diverse ideas and suggestions for the U.S.'s 6th Open Government National Action Plan. Your input is crucial in shaping a plan that reflects the needs and priorities of the American people. In addition to, or as an alternative to, submitting written feedback in response to this RFI, you are invited to attend a virtual listening session hosted by GSA on Wednesday, October 9, 2024 from 2 p.m. to 4 p.m. ET. This on-the-record and recorded session offers an opportunity to gain further insight and provide live input. Registration is required. Please register for the event at https://gsa.zoomgov.com/meeting/register/vJItceygrDMqHB0Ia7An4tyg9Gx3xlKFVQA.

II. Considerations for Responses

When submitting your ideas, please keep in mind that all potential commitments must align with the resource constraints of the U.S. government. This includes considerations such as budget, personnel, and the feasibility of implementation. Commitments included in the 6th U.S. Open Government National Action Plan will need to be specific, measurable, achievable, relevant, and time-bound (SMART).

Respondents are encouraged to structure their ideas around one of the 10 challenge themes in the Open Government Challenge, available at https://www.opengovpartnership.org/the-open-gov-challenge. These themes provide a comprehensive framework to structure responses and ensure all aspects of open government are considered.

The U.S. Open Government Secretariat values all contributions and will carefully review each submission based on the above criteria. GSA will review and consider the usability and applicability of each of the responses to this RFI in shaping the 6th U.S. Open Government National Action Plan. That being said, all RFI responses will be made available to the Open Government Federal Advisory Committee as input into their official recommendations to the commitments that should be included in the 6th U.S. Open Government National Action Plan. To help refine your proposals, respondents may wish to review previous U.S. Open Government National Action Plans (https://www.gsa.gov/governmentwide-initiatives/us-open-government/resources#tab--National-Action-Plans) to see if similar ideas have been addressed before.

III. Topics and Key Questions

You are invited to provide ideas for new topics and commitments that could be included in the 6th U.S. Open Government National Action Plan. Respondents do not need to respond to every question and may provide additional feedback for the U.S. Open Government Secretariat to consider in developing and implementing the 6th U.S. Open Government National Action Plan. Specifically, GSA is looking for:

1. Problem Identification: Please explain a specific problem that open government can address. Identify unmet needs, broken processes, and problems around transparency, participation, and accountability. Explain how open government commitments can deliver a more responsive, equitable, and accountable government for and by the people.

2. Opportunities to Build on Existing Work: Identify existing work by a federal government agency or outside of the government, such as by civil society individuals or nongovernmental organizations, that can be built upon to support open government efforts. How can these efforts be expanded or enhanced to create meaningful commitments?

3. Innovative Approaches: What innovative approaches or emerging technologies could the government explore to enhance transparency, public participation, and accountability? How could these be integrated into the 6th U.S. Open Government National Action Plan?

4. Resources and Recommendations: Suggest existing reports, collections of recommendations, and landscape analyses that can help inform a comprehensive, responsive, and evidence-based co-creation process for the 6th U.S. Open Government National Action Plan.

Mehul Parekh,
Acting Associate Administrator, Office of Government-wide Policy, General Services Administration.

[FR Doc. 2024-20702 Filed 9-11-24; 8:45 am]

BILLING CODE 6820-UA-P